DEPARTMENT OF HEALTH AND HUMAN SERVICES

Substance Abuse and Mental Health Services Administration

Agency Information Collection Activities: Non-Substantive Change Review by the Office of Management and Budget

The Substance Abuse and Mental Health Services Administration (SAMHSA) has submitted the following request (see below) for a Non-substantive Change review under the Paperwork Reduction Act (44 U.S.C. Chapter 35). A copy of the information collection plans may be obtained by calling the SAMHSA Reports Clearance Officer on (240) 276-0361.

Title: 2020 National Survey on Drug Use and Health.

OMB Number: 0930-0110.

Frequency: Annual.

Affected Public: Individuals or Households.

The National Survey on Drug Use and Health (NSDUH) is a survey of the U.S. civilian, non-institutionalized population aged 12 years old or older. The data are used to determine the prevalence of use of tobacco products, alcohol, illicit substances, and illicit use of prescription drugs. The results are used by SAMHSA, the Office of National Drug Control Policy (ONDCP), federal government agencies, and other organizations and researchers to establish policy, direct program activities, and better allocate resources.

While NSDUH must be updated periodically to reflect changing substance use and mental health issues and to continue producing current data a non-substantive change has been warranted in response to the COVID-19 pandemic. For on the 2020 NSDUH the following minor changes are planned: (1) Adding eleven COVID-19 questions; and (2) four telemedicine utilization questions.

The COVID-19 questions seek to assess the pandemic effects on substance use and mental health in the United States. Including these questions on the NSDUH survey will allow SAMHSA to provide national-level estimates on the impact of COVID-19 on substance use and mental health. The four questions on telemedicine utilization will provide national, systematic survey data on its use to treat substance use and mental health in the United States. The updates will also allow the NSDUH to transition to a more agile data collection methodology. As certain parts of the United States reduce COVID-19 restrictions in-person data collection will resume in October 2020 when possible. However, in order to collect sufficient data to produce nationally representative estimates, a modified sampling strategy including alternate modes of administration will be applied including telephone and online interviews in areas with COVID-19 restrictions.

As with all NSDUH/NHSDA (Prior to 2002, the NSDUH was referred to as the National Household Survey on Drug Abuse) surveys conducted since 1999, the sample size of the survey for 2020 will be only be sufficient to permit prevalence estimates for each of the fifty states and the District of Columbia through multimodal data collection. Due to an estimated smaller sample size there is no increase to the annualized burden hours for the NSDUH. Adding the 11 COVID-19 pandemic and 4 telemedicine items is expected to add approximately 10 minutes extra burden per respondent shown below in Table 1.

Table 1—Estimated Respondent Burden Hours With New Questions
Response | Number of respondents | Number of responses per respondent | Average burden per response (in hours) | Total burden hours
COVID-19 Items | 42,000 | 1 | 0.133 | 5,586
Telemedicine Items | 42,000 | 1 | 0.033 | 1,400
Interview (including new questions) | 42,000 | 1 | 1.167 | 49,014

Non-substantive Change approval is being requested because SAMHSA has determined proposed questions and modifications are necessary to address the effects of COVID-19 on substance use and mental health in American communities. Because of these additional questions, this Federal Register notice is a revision from the one that was published on August 13, 2019.

Send comments to Carlos Graham, SAMHSA Reports Clearance Officer, 5600 Fisher Lane, Room 15E57A, Rockville, MD 20852 OR email him a copy at carlos.graham@samhsa.hhs.gov. Written comments should be received by November 17, 2020.

Carlos Graham,
Social Science Analyst.

[FR Doc. 2020-20556 Filed 9-17-20; 8:45 am]

BILLING CODE 4162-20-P